MILLENNIUM CHALLENGE CORPORATION

[MCC FR 05-01]

Public Information Session Regarding Development of a Natural Resources Indicator

AGENCY: Millennium Challenge Corporation.

ACTION: Notice.

SUMMARY: The Millennium Challenge Corporation (“MCC”) will hold a public information meeting on Monday, February 28, 2005, at the American Society of Association Executives in Washington, DC. The meeting will inform interested parties that MCC is seeking an indicator that measures a country's economic policies that promote the sustainable management of natural resources. MCC Board member Christine Todd Whitman will chair the event, and the MCC Chief Executive Officer and relevant staff will also attend to facilitate discussion.

DATES: Monday, February 28, 2005; from 1-2:30 p.m.

ADDRESSES: American Society of Association Executives,1575 Eye Street, NW(Enter through the Eye Street entrance, check in with the security guard and proceed to the conference facility at the back of the lobby), Washington, DC.

FOR FURTHER INFORMATION CONTACT: Information on the meeting may be obtained from Sherri Kraham at (202) 521-3600.

SUPPLEMENTARY INFORMATION: Due to security requirements at the meeting location, all individuals wishing to attend the meeting are encouraged to arrive at least 15 minutes before the meeting begins and must supply a photo identification. Those wishing to attend should e-mail Sherri Kraham at events@mcc.gov with the following information: Name, Telephone Number, E-mail address; Affiliation/Company Name. Seating will be available on a first come, first served basis.

Dated: February 10, 2005.
Frances C. McNaught,
Vice President, Domestic Relations, Millennium Challenge Corporation.

[FR Doc. 05-2994 Filed 2-15-05; 8:45 am]

BILLING CODE 9210-01-P